DEPARTMENT OF TRANSPORTATION

National Highway Traffic Safety Administration

[Docket No. NHTSA 2001-9036; Notice 1]

Mazda Motor Corporation, Receipt of Application for Decision of Inconsequential Noncompliance

Mazda Motors Corporation has determined that certain 1994 model Mazda Navajos and 1994 through 2000 model Mazda B-Series trucks do not meet the labeling requirements of paragraphs 5.2(a) and 5.2(c) of Federal Motor Vehicle Safety Standard (FMVSS) No. 120, “Tire Selection and Rims for Motor Vehicles Other Than Passenger Cars”. Pursuant to 49 U.S.C. 30118(d) and 30120(h), Mazda has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

Mazda states that approximately 218,000 vehicles were manufactured with tire rims that do not include the letter “T” identifying TRA as the source of the nominal dimensions of the rims. Also, the rims on these vehicles do not include the “DOT” symbol, indicating certification of compliance with the substantive requirements of the standard.

Mazda states that the noncompliances are inconsequential to motor vehicle safety because, with the exception of the cited missing markings, the noncomplying rims do comply with all other federal requirements. The missing markings identifying the source of the rim dimensions have no effect on the tire/rim performance. According to Mazda, the tires and rims on the affected vehicles are properly matched and are appropriate for the load carrying characteristics of these vehicles. Mazda indicates that selection of an incorrect replacement rim is possible, but not likely to result in a safety problem. Mazda states that a comparison of rim dimensions by several other designates listed in S5.2(a) indicated that dimensions for the size and type of the rims in question are essentially identical to the rims designed by TRA, the source for the noncompliant rims. Therefore, correctly sized rims with dimensions from other designates would be appropriate for these vehicles. With respect to the DOT symbol marking, Mazda states that the rims comply with all federal requirements that may have an impact on motor vehicle safety and therefore, it does not consider this noncompliance with S5.2(c) to be a safety problem.

Interested persons are invited to submit written data, views and arguments on the application described above. Comments should refer to the docket number and be submitted to: U.S. Department of Transportation, Docket Management, Room PL-401, 400 Seventh Street, SW, Washington, DC 20590. It is requested that two copies be submitted.

All comments received before the close of business on the closing date indicated below will be considered. The application and supporting materials, and all comments received after the closing date, will also be filed and will be considered to the extent possible. After the Agency has determined that the application will be granted or denied, a notice will be published in the Federal Register pursuant to the authority indicated below. Comment closing date: (30 days after Publication Date).

(49 U.S.C. 301118, 301120; delegations of authority at 49 CFR 1.50 and .501.8)
Issued on: April 26, 2001.
Stephen R. Kratzke,
Associate Administrator for Safety Performance Standards.

[FR Doc. 01-10797 Filed 4-30-01; 8:45 am]

BILLING CODE 4910-59-P